DEPARTMENT OF TRANSPORTATION

Federal Highway Administration

[FHWA Docket No. FHWA-2000-7646]

Implementation Guidance for the National Historic Covered Bridge Preservation Program

AGENCY: Federal Highway Administration (FHWA), DOT.

ACTION: Notice; request for comments on selection criteria for fiscal year (FY) 2001 and beyond.

SUMMARY: This document describes the National Historic Covered Bridge Preservation program (NHCBP) for FY 2000, and seeks comments from all interested parties on the application and selection criteria to be used by the FHWA in future years in evaluating candidates for historic covered bridge preservation. A memorandum soliciting candidate projects for preservation work from State transportation agencies was issued to FHWA division offices on June 5, 2000, and is attached to the end of this notice.

DATES: Comments on the selection criteria for NHCBPP funding for FY 2001 and beyond must be received on or before October 10, 2000.

ADDRESSES: Your signed, written comments on the bridge project selection criteria for the NHCBP program funding for FY 2001 and beyond must refer to the docket number appearing at the top of this document and you must submit the comments to the Docket Clerk, U.S. DOT Dockets, Room PL-401, Seventh Street, SW., Washington D.C. 20590-0001 or submit electronically at http://dmses.dot.gov/submit. All comments received will be available for examination at the above address between 9 a.m. and 5 p.m., e.t., Monday through Friday, except Federal holidays. Those desiring notification of receipt of comments should include a self addressed, stamped envelope or postcard or print the acknowledgement page that appears after submitting comments electronically.

FOR FURTHER INFORMATION CONTACT: Ms. Sheila Rimal Duwadi, Office of Bridge Technology, HIBT-30, (202) 366-4619; or Mr. Bruce Eberle, Office of Human Environment, HEPH-10, (202) 366-2060; or Mr. Robert J. Black, Office of the Chief Counsel, HCC-30, (202) 366-1359; Federal Highway Administration, 400 Seventh Street SW., Washington DC 20590-0001. Office hours are from 7:45 a.m. to 4:15 p.m., e.t., Monday through Friday, except Federal holidays.

SUPPLEMENTARY INFORMATION:

Electronic Access and Filing

You may submit or retrieve online through the Document Management system (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document may be downloaded using a modem and suitable communications software from the Government Printing Office Electronic Bulletin Board Service at (202) 512-1661. Internet users may reach the Office of the Federal Register's home page at http://www.nara.gov/fedreg and the Government Printing Office's web site at http://www.access.gpo.gov/nara. The solicitation memorandum will also be available on the FHWA web site at http://www.fhwa.dot.gov/bridge.

Background

The Transportation Equity Act for the 21st Century (TEA-21) (Public Law 105-178, 112 Stat. 107, June 9, 1998), as amended by the TEA 21 Restoration Act (the Act) (Public Law 105-206, 112 Stat. 834 (1998)), established the National Historic Covered Bridge Preservation grants program. Section 1224 of the Act authorizes $10 million to be appropriated for each of the fiscal years 1999 through 2003. In FY 1999, no funds were provided for this program. In FY 2000, $8 million was authorized from the FHWA administrative expense. On June 5, 2000, the FHWA issued a memorandum to its division offices located in each State, the District of Columbia, and Puerto Rico soliciting from the transportation agencies candidate bridge projects for FY 2000 NHCBP program funding. The memorandum contains information on the program, program implementation, eligible activities, the application process, and the selection criteria for use by the FHWA in evaluating FY 2000 candidate bridge projects. The memorandum is published here for informational purposes. The FHWA has determined that the research projects under this program will be solicited through the FHWA's Office of Contract Management under a broad agency announcement, and will therefore be a separate program under the main NHCBP program. Any reference made to the Research Program is for informational purposes, and for completeness.

The FHWA plans to use the same process, and to continue to use the same selection criteria for FY 2001 and beyond for this grant program. However, before doing so, the FHWA is interested in the views of the States and other interested parties on the process, and on these bridge selection criteria. The purpose of this notice is to invite comments from the States and others on this process and on these selection criteria which will be used for soliciting and for evaluating candidate bridge projects for FY 2001 and beyond.

National Historic Covered Bridge Preservation Program Guidelines

The NHCBP program provides for two categories of projects: First, for grants to assist the States in their efforts to rehabilitate or repair and to preserve the Nations's historic covered bridges which are listed or are eligible for listing on the National Register of Historic Places ¹; and second, for the conduct of research to find improved means of restoring, and protecting covered bridges, and disseminating this information through technology transfer. Funding and specifics of the two categories of projects include:

¹ The National Register of Historic Places is the official list of America's districts, sites, buildings, structures or objects that are significant in American history, architecture, archeology, engineering, and culture. The National Register is administered by the Department of the Interior.

1. Historic Covered Bridge Preservation, Rehabilitation, or Restoration. Of the funds provided for FY 2000, the FHWA will provide a minimum of $7 million for the following activities:

a. Preservation, rehabilitation or restoration of an historic covered bridge in accordance with the Secretary of the Interior's Standards for the Treatment of Historic Properties. The standards should be consulted for the terms and definitions for the distinct approaches to the treatment of historic properties, i.e. preservation, rehabilitation, or restoration. Although the standards were developed for historic buildings, the terms, guidelines and suggested approaches are generally applicable to historic covered bridges.

b. Preservation of an historic covered bridge, including through: (i) installation of a fire protection system; (ii) installation of a system to prevent vandalism and arson; and (iii) relocation of a bridge to a preservation site.

2. Historic Covered Bridge Preservation Research. Of the funds provided for FY 2000, the FHWA will provide a maximum of $1 million for research projects including but not limited to:

a. Collection and dissemination of information concerning historic covered bridges;

b. Development of educational programs relating to the history and construction techniques of historic covered bridges; and

c. Basic research to find better means of protecting historic covered bridges from rot, fire, natural disasters, or weight-related damages.

The activities under category 1 are the subject of the attached memorandum and this notice. The bridge projects for this part of the program are being solicited through the State highway agencies. The activities under category 2 will be solicited separately by the FHWA under a broad agency announcement.

Federal Share

Federal share of the costs for any project eligible under this program is 80 percent.

Obligation Limitation

There is no obligation limitation on the NHCBP program funds.

Eligibility

To be considered, a covered bridge must be eligible for listing or listed in the National Register of Historic Places. Projects must be carried out in the most historically appropriate manner and preserve the existing structure. The project must also provide for replacement of wooden components with wooden components, unless the use of wood is impractical for safety reasons. The Secretary of the Interior's Standards for the Treatment of Historic Properties should be consulted in carrying out any preservation work. Although the standards were developed for historic buildings, the terms, guidelines and suggested approaches are generally applicable to historic covered bridges, and must be considered if one is to retain the historical characteristic of a structure.

The project may be on any public roadway, including Federal, State, and locally funded projects.

Funds are available for costs of preliminary engineering, costs of rehabilitation, preservation, and arson and vandalism prevention activities. Funds are also available for evaluating any innovative portion of the restoration work not to exceed 2 years, and for preparation of a case study report.

Solicitation Procedures

Each year when funds are authorized for this program the FHWA will send a solicitation memorandum to the division offices for bridge preservation projects. The memorandum will contain the amount of available funding for that year, the selection criteria, and the program guidelines. This year's solicitation memorandum was sent on June 5. For FY 2000, eligible bridge candidates submitted to the FHWA that are not selected will be placed on file for the next year's solicitation. Prior to placement of an eligible bridge candidate on file for inclusion in the next year's selection pool, the FHWA will ask the originator if it wishes for us to continue to maintain the candidate for the next year. If the originator declines, the FHWA will remove the project from its file. Eligible bridge candidates placed on file and not selected for funding in the next fiscal year will be removed from the FHWA selection pool.

Responsibilities

State Transportation Agency Responsibilities

Coordinate with State, local, and Federal agencies within the State to develop viable candidate bridge projects.

Coordinate bridge projects with the State Historic Preservation Officer or his/her designee.

Ensure that the applications for candidate bridge projects meet the submission requirements outlined in the solicitation memorandum.

Establish priorities for their candidate bridge projects if desired.

Submit applications to the local FHWA division office to meet the submission deadline.

Monitor the selected project(s); and prepare and submit a report on the work at the completion of each project to the FHWA.

FHWA Division Office Responsibilities

Provide the solicitation memorandum and program information to the State transportation agency.

Request candidate projects be submitted by the State to the FHWA Division office to meet the submission deadline established in the solicitation.

Review all candidate applications submitted by the State for completeness prior to forwarding them to the FHWA Headquarters office.

Make recommendations as appropriate.

Monitor selected projects through completion. Ensure reports are submitted by the States on each project completed.

FHWA Headquarters Program Office Responsibilities.

Solicit candidates through the solicitation memorandum.

Form a Review Panel to review and select candidate projects.

Allocate funds for the selected projects.

Monitor the projects through completion.

Compile project report(s) submitted by the States through the division offices.

FHWA Headquarters Program Office Contact

For questions concerning the NHCBP program, please contact Ms. Sheila Rimal Duwadi, Office of Bridge Technology, HIBT-30, at (202) 366-4619, FAX (202) 366-3077, or e-mail sheila.duwadi@fhwa.dot.gov; and Mr. Bruce Eberle, Office of Human Environment, HEP-10, at (202) 366-2060, FAX (202) 366-3409, or e-mail bruce.eberle@fhwa.dot.gov.

Selection Criteria for Bridge Preservation Projects

Candidate projects will be selected utilizing input from a panel formed by the FHWA.

Candidate projects which best meet the intent of this program will receive the highest priority. Applicants may want to provide additional information to explain how the project meets the intent of the program.

Candidate projects ready for or near the construction phase will be given priority consideration.

Candidate projects that leverage Federal funds with other significant public or private resources will be given preference.

Candidate projects which further the aims of the Historic Bridge Management Plan and/or the State Historic Preservation Plan with the endorsement of the State Historic Preservation Officer will be given priority consideration.

Candidate projects that propose restoration, and rehabilitation will be prioritized by sufficiency rating, the lower the rating the higher the priority. Also, to be eligible for rehabilitation the bridge should be eligible for funding under the Highway Bridge Replacement and Rehabilitation Program.

Candidate projects proposing complete restoration and rehabilitation will be given priority over candidate projects proposing only the installation of fire/vandalism protection systems or those proposing moving the bridge to a preservation location.

Candidate projects that propose fire/vandalism protection system installation or moving the bridge to a preservation site will not be considered if the bridge is eligible for replacement.

Application Guidance

A copy of the application is available at the FHWA website at http://www.fhwa.dot.gov/bridge under the “Covered Bridge Program, Program Implementation.” The application asks for various information about a bridge and proposed preservation project so that FHWA can determine if it is a good candidate. The information requested includes the location of the bridge, its age, structural description and what are the qualities that make the bridge eligible for the National Register. The application also asks what repair work has previously been done and what the grant will be used for now. Plans and a narrative history of the bridge are also requested.

Priority Ranking

Each State, in cooperation with the FHWA division office, is requested to prioritize its candidate projects giving reasons for the priority.

High Cost Projects

The FHWA will attempt to equitably distribute funds to applicant States in accordance with the States' priorities. However, subject to special consideration, it is to be expected that high cost project requests may be funded at less than 100 percent of a State's requested amount. In FY 2000, the threshold amount will depend on the total number of eligible projects submitted, as well as on the total amount of funds requested. Candidates projects that cannot be obligated in FY 2000 will be kept on file until FY 2001 funds become available. At that time, we will ask the division office to verify whether or not the State wants the project application to be used for FY 2001 ranking.

Decision Process for Funding

All projects will be evaluated and recommended for funding by a selection panel formed by the FHWA.

Schedule

The following is the schedule for program activities:

June 2000: Call for FY 2000 projects.

August 1, 2000: FHWA request for submission of FY 2000 candidate projects.

September 2000: Selection of FY 2000 projects.

Early 2001 Call for FY 2001 projects (subject to available funding).

Solicitation Memorandum of June 5, 2000

Text of the solicitation memorandum of June 5, 2000, reads as follows:

Action: Request for Candidates National Historic Covered Bridge Preservation Program—Reply due: August 1, 2000

From: David H. Densmore, Director of Bridge Technology.

To: Resource Center Directors, Division Administrators, Federal Lands Highway Division Engineers.

The purpose of this memorandum is to solicit candidate bridge projects from the States for the National Historic Covered Bridge Preservation (NHCBP) program. This program was established by section 1224 of the Transportation Equity Act for the 21st Century, as amended by the TEA 21 Restoration Act (TEA-21). The program provides funding to assist the States in their efforts to preserve, rehabilitate, or restore the Nation's historic covered bridges. For the purposes of this program, the term “historic covered bridge” means a covered bridge that is listed or eligible for listing on the National Register for Historic Places.

This program provides for two categories of projects: First, for grants to assist the States in their efforts to rehabilitate or repair and to preserve the Nations's historic covered bridges; and second, for the conduct of research and technology transfer. The total available funding provided for this program in FY 2000 is $8 million. Funding and specifics for the two project categories include:

1. Historic Covered Bridge Preservation, Rehabilitation, or Restoration. Of the funds provided for FY 2000, the FHWA will provide a minimum of $7 million for this category. Grants will be awarded to States submitting applications that demonstrate a need for assistance in carrying out one or more eligible projects as outlined below:

a. to preserve, rehabilitate, or restore a historic covered bridge.

b. to preserve a historic covered bridge, including through: (i) installation of a fire protection system; (ii) installation of a system to prevent vandalism and arson; and (iii) relocation of a bridge to a preservation site.

2. Historic Covered Bridge Preservation Research. Of the funds provided for FY 2000, the FHWA will provide a maximum of $1 million for this category. This phase of the program will be carried out through a separate Broad Agency Announcement (BAA), and is included here for information purposes only. The research projects will include, but not be limited to the following:

a. collection and dissemination of information concerning historic covered bridges;

b. development of educational programs relating to the history and construction technique of historic covered bridges; and

c. conduct of basic research to find better means of protecting historic covered bridges from rot, fire, natural disasters, or weight-related damages.

To ensure the projects retain their historical significance, each project must be carried out in the most historically appropriate manner following the Department of Interior Standards, and the standards and guidelines approved by the State Historic Preservation Officer. The Secretary of the Interior's Standards for the Treatment of Historic Properties may be obtained at the following website, http://www2.cr.nps.gov/tps/secstan1.htm and should be consulted for terms and definitions for the distinct approaches to treatment of historic properties, i.e. preservation, rehabilitation, and restoration. Although the Standards were developed for historic buildings the terms, guidelines, and suggested approaches are generally applicable to historic covered bridges.

We are requesting that all applications be submitted on or before August 1, 2000.

Please refer to the attached program summary for additional guidance. Using the explanation of the criteria and associated selection considerations, please assist your State department of transportation in determining the projects to be submitted.

Attached is an application form which is to be used for candidate projects. The State's application should describe the project in enough detail to demonstrate that it meets one or more of the goals of this program. The application should be completed and submitted to the Office of Bridge Technology along with any other supporting documents that provide a further description of the project including the scope of work and bridge plans.

Questions concerning this program should be addressed to Ms. Sheila Rimal Duwadi, Office of Bridge Technology, at (202) 366-4619, or to Mr. Bruce Eberle, Office of Human Environment, at (202) 366-2060.

Authority: 23 U.S.C. 315; and 49 CFR 1.48)

Issued on: August 15, 2000.
Anthony R. Kane,
Federal Highway Executive Director.

[FR Doc. 00-21421 Filed 8-22-00; 8:45 am]

BILLING CODE 4910-22-P